DEPARTMENT OF THE INTERIOR

Bureau of Land Management

[ID-076-1430-ES—IDI-32770]

Notice of Realty Action; Recreation and Public Purposes (R&PP) Act Classification; Idaho

AGENCY: Bureau of Land Management, Interior.

ACTION: Notice of realty action.

SUMMARY: The following public lands near the community of Bliss, Gooding County, Idaho have been examined and found suitable for classification for lease or conveyance to Hagerman Cemetery Maintenance District, Idaho under the provisions of the Recreation and Public Purposes Act, as amended (43 U.S.C. 869 et seq.).

FOR FURTHER INFORMATION CONTACT: David Howell, on (208) 524-7559.

SUPPLEMENTARY INFORMATION: The following public lands near the community of Bliss, Gooding County, Idaho have been examined and found suitable for classification for lease or conveyance to Hagerman Cemetery Maintenance District, Idaho under the provisions of the Recreation and Public Purposes Act, as amended (43 U.S.C. 869 et seq.). The Hagerman Cemetery Maintenance District proposes to use the lands for public cemeteries.

Boise Meridian

T. 4 S., R. 13 E.,

Sec. 32, SENWSW

T. 5 S., R. 12 E.,

Sec. 04, N2SWNWNW, S2NWNWNW

Containing 20 acres more or less.

The lands are not needed for Federal purposes. Lease or conveyance is consistent with current BLM land use planning and would be in the public interest. The lease/patent, when issued, will be subject to the following terms, conditions and reservations:

1. Provisions of the Recreation and Public Purposes Act and to all applicable regulations of the Secretary of the Interior.

2. A right-of-way for ditches and canals constructed by the authority of the United States.

3. Any other reservations that the authorized officer determines appropriate to ensure public access and proper management of Federal lands and interests therein. Detailed information concerning this action is available for review at the office of the Bureau of Land Management, Upper Snake River District, Shoshone Field Office, and 400 West F Street, Shoshone, Idaho 83352.

Upon publication of this notice in the Federal Register, the lands will be segregated from all other forms of appropriation under the public land laws, including the general mining laws, except for lease or conveyance under the Recreation and Public Purposes Act and leasing under the mineral leasing laws.

Until October 30, 2003, interested persons may submit comments regarding the proposed lease/conveyance or classification of the lands to the District Manager; Upper Snake River District, 1405 Hollipark Drive, Idaho Falls, Idaho 83401-2100.

Classification Comments: Interested parties may submit comments involving the suitability of the land for a cemetery. Comments on the classification are restricted to whether the land is physically suited for the proposal, whether the use will maximize the future use or uses of the land, whether the use is consistent with local planning and zoning, or if the use is consistent with State and Federal programs.

Application Comments: Interested parties may submit comments regarding the specific use proposed in the application and plan of development, whether the BLM followed proper administrative procedures in reaching the decision, or any other factor not directly related to the suitability of the land for a cemetery.

Any adverse comments will be reviewed by the State Director. In the absence of any adverse comments, the classification will become effective November 14, 2003.

Dated: August 11, 2003.
Joe Kraayenbrink,
Acting District Manager.

[FR Doc. 03-23438 Filed 9-12-03; 8:45 am]

BILLING CODE 4310-GG-P